DEPARTMENT OF HOUSING AND URBAN DEVELOPMENT

[Docket No. FR-5375-N-35]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property.

This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 2261 Hughes Ave., Suite 121, Lackland AFB, TX 78236; (210) 395-9512; ENERGY: Mr. Mark Price, Department of Energy, OECM, MA-50, 1000 Independence Ave., SW., Washington, DC 20585; (202) 586-5422; GSA: Mr. Gordon Creed, Acting Deputy Assistant Commissioner, General Services Administration, Office of Property Disposal, 18th & F Streets, NW., Washington, DC 20405; (202) 501-0084; NAVY: Mr. Albert Johnson, Director of Real Estate, Department of the Navy, Naval Facilities Engineering Command, Washington Navy Yard, 1330 Patterson Ave., SW., Suite 1000, Washington, DC 20374; (202) 685-9305; (These are not toll-free numbers).

Dated: September 2, 2010.
Mark R. Johnston,
Deputy Assistant Secretary for Special Needs.

TITLE V, FEDERAL SURPLUS PROPERTY PROGRAM

FEDERAL REGISTER REPORT FOR 09/10/2010

Unsuitable Properties

Building

California

Bldgs. 616, 5226

Lawrence Livermore Natl Lab

Livermore CA 94550

Landholding Agency: Energy

Property Number: 41201030001

Status: Excess

Reasons: Within 2000 ft. of flammable or explosive material, Secured Area

14 Bldgs.

Naval Weapons Station

Seal Beach CA 90740

Landholding Agency: Navy

Property Number: 77201030024

Status: Unutilized

Directions: 14, 15, 18, 19, 20, 21, 22, 23, 24, 25, 26, 27, 28, 29

Reasons: Within 2000 ft. of flammable or explosive material, Secured Area, Extensive deterioration

Bldg. 7212

Marine Corps Air Station

Miramar CA

Landholding Agency: Navy

Property Number: 77201030025

Status: Excess

Reasons: Secured Area, Extensive deterioration

10 Bldgs.

Naval Weapons Station

Seal Beach CA 90740

Landholding Agency: Navy

Property Number: 77201030026

Status: Unutilized

Directions: 231, 233, 234, 248, 253, 260, 300, 411, 420, 876, 920

Reasons: Extensive deterioration, Within 2000 ft. of flammable or explosive material, Secured Area

7 Bldgs.

Naval Base

Ventura CA 93042

Landholding Agency: Navy

Property Number: 77201030029

Status: Unutilized

Directions: 4-32, 5-24, 555, 737, 764, 852, 853

Reasons: Extensive deterioration, Secured Area

4 Bldgs.

Naval Base

Ventura CA 93043

Landholding Agency: Navy

Property Number: 77201030030

Status: Unutilized

Directions: 2-825, 4-30, 353, 789

Reasons: Extensive deterioration, Secured Area

11 Bldgs.

Naval Base

Ventura CA 93042

Landholding Agency: Navy

Property Number: 77201030031

Status: Unutilized

Directions: 71, 73, 76, 77, 240, 244, 246, 248, 565, 700, 704

Reasons: Secured Area, Extensive deterioration

Florida

14 Bldgs.

Naval Air Station

Jacksonville FL

Landholding Agency: Navy

Property Number: 77201030027

Status: Unutilized

Directions: 108, 151, 152, 153, 173, 192, 234, 318, 790, 847, 947, 1205, 1524, 1846

Reasons: Secured Area, Extensive deterioration

Hawaii

Bldg. 237

Joint Base Pearl Harbor

Hickam

Wahiawa HI 96786

Landholding Agency: Navy

Property Number: 77201030028

Status: Excess

Reasons: Extensive deterioration

Maryland

Appraisers Store

Baltimore MD 21202

Landholding Agency: GSA

Property Number: 54201030016

Status: Excess

GSA Number: 4-G-MD-0623

Reasons: Floodway

New Mexico

Bldg. 790

Holloman AFB

Otero NM 88330

Landholding Agency: Air Force

Property Number: 18201030013

Status: Unutilized

Reasons: Extensive deterioration, Secured Area

[FR Doc. 2010-22441 Filed 9-9-10; 8:45 am]

BILLING CODE 4210-67-P